COMMISSION OF FINE ARTS

2008 National Capital Arts and Cultural Affairs Program

Notice is hereby given that Public Law 99-190, as amended, authorizing the National Capital Arts and Cultural Affairs Program, has been funded for 2008 in the amount of $8,367,400.00. All requests for information and applications for grants should be sent to: 2008 NCACA Grant Program, U.S. Commission of Fine Arts, 401 F Street, NW., Suite 312, Washington, DC 20001-2728, Phone: 202-504-2200.

Deadline for receipt of grant applications as 1 March 2008.

This program provides grants for general operating support of organizations whose primary purpose is performing, exhibiting, and/or presenting the arts. To be eligible for a grant, organizations must be located in the District of Columbia, must be non-profit, non-academic institutions of demonstrated national repute, and must have annual incomes, exclusive of federal funds, in excess of one million dollars for each of the past three years, Organizations seeking grants must provide a Dun and Bradstreet (D&S) Data Universal Numbering System (DUNS) number when applying.

Thomas E. Luebke,
Secretary, U.S. Commission of Fine Arts.

[FR Doc. 08-16 Filed 1-7-08; 8:45 am]

BILLING CODE 6330-01-M